RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection title: Medicare.

(2) Form(s) submitted: AA-6, AA-7, AA-8.

(3) OMB Number: 3220-0082.

(4) Expiration date of current OMB clearance: 9/30/2000.

(5) Type of Request: Revision of a currently approved collection.

(6) Respondents: Individuals or households; Business or other-for-profit; State, Local or Tribal Government.

(7) Estimated annual number of respondents: 240.

(8) Total annual responses: 240.

(9) Total annual reporting hours: 32.

(10) Collection description: The Railroad Retirement Board administers the Medicare program for persons covered by the railroad retirement system. It obtains information needed to enroll non-retired employees and survivor applicants in the plan; information to pay claims for services under Part B of the program; information providing for review of claims determinations; information needed to determine entitlement to a special enrollment period and information needed to determine entitlement to Supplementary Medical coverage.

Additional Information or Comments

Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-359-7316), Office of Management and Budget, Room 10230, New Executive Office Building, Washington, D.C. 20503.

Chuck Mierzwa,
Clearance Officer.

[FR Doc. 00-19958 Filed 8-7-00; 8:45 am]

BILLING CODE 7905-01-M